DEPARTMENT OF STATE

[Public Notice: 9797]

Notice of Meeting of Advisory Committee on International Law

A meeting of the Department of State's Advisory Committee on International Law will take place on Tuesday, December 13, from 9:30 a.m. to 5:00 p.m. at the George Washington University Law School, Michael K. Young Faculty Conference Center, 716 20th Street NW., 5th Floor, Washington, DC. Legal Adviser Brian Egan will chair the meeting, which will be open to the public up to the capacity of the conference room. It is anticipated that the meeting will include discussions on the Foreign Sovereign Immunities Act, state and individual responsibility for arms sales, “Brexit,” and effective international lawyering during transitions.

Members of the public who wish to attend should contact the Office of the Legal Adviser by December 9 at simcockjc@state.gov or (202) 776-8477 and provide their name, professional affiliation, address, and phone number.

A valid photo ID is required for admission to the meeting. Attendees who require reasonable accommodation should make their requests by December 7. Late requests will be considered but might not be possible to accommodate.

Dated: November 17, 2016.
Julian C. Simcock, Office of the Legal Adviser,
Executive Director, Advisory Committee on International Law, United States Department of State.

[FR Doc. 2016-28398 Filed 11-23-16; 8:45 am]

BILLING CODE 4710-08-P